NUCLEAR REGULATORY COMMISSION

[Docket No. EA-20-044; NRC-2020-0095]

Order Suspending General License Authority To Export Byproduct Material to Pakistan

AGENCY: Nuclear Regulatory Commission.

ACTION: Order; issuance.

SUMMARY: The U.S. Nuclear Regulatory Commission (NRC) is issuing an Order suspending the general license authority under NRC regulations for exports of byproduct material to Pakistan. Exporters are no longer authorized to use the general license to export byproduct material to Pakistan and now must apply for a specific license pursuant to NRC regulations.

DATES: This Order takes effect immediately.

FOR FURTHER INFORMATION CONTACT: Lauren Mayros, Office of International Programs, U.S. Nuclear Regulatory Commission, Washington, DC 20555-0001, telephone: 301-287-9088, email: Lauren.Mayros@nrc.gov.

ADDRESSES: Please refer to Docket ID NRC-2020-0095 when contacting the NRC about the availability of information regarding this document. You may obtain publicly-available information related to this document using any of the following methods:

• Federal Rulemaking website: Go to https://www.regulations.gov and search for Docket ID NRC-2020-0095. Address questions about NRC dockets IDs in Regulations.gov to Jennifer Borges; telephone: 301-287-9127; email: Jennifer.Borges@nrc.gov. For technical questions, contact the individual(s) listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

SUPPLEMENTARY INFORMATION: The text of the Order is attached.

Dated: April 16, 2020.
For the Nuclear Regulatory Commission.
Nader L. Mamish,
Director,Office of International Programs.

Attachment—Order Suspending General License Authority To Export Byproduct Material to Pakistan

In the matter of General License Holders

EA-20-044

Order Suspending General License Authority To Export Byproduct Material to Pakistan (Effective Immediately)

The licensees that are subject to this order are authorized by the NRC through the general license granted in section 110.23 of title 10 of the Code of Federal Regulations (CFR), pursuant to Section 82 of the Atomic Energy Act of 1954, as amended (AEA), to export byproduct material to Pakistan.

The Executive Branch has determined that suspending byproduct material exports to Pakistan under this 10 CFR part 110 general license is necessary to enhance the common defense and security of the United States and is consistent with the provisions of the Atomic Energy Act, as amended. For this reason, the Executive Branch has recommended that the NRC suspend the general license authority in 10 CFR 110.23 for any exports of byproduct material to Pakistan.

Accordingly, pursuant to Sections 161b., 161i., 183, and 186 of the AEA, and 10 CFR 110.20(b) and (f) and 10 CFR 110.50(a)(1) and (2), NRC general license authority for exports of byproduct material to Pakistan under Section 82 of the AEA and 10 CFR 110.23 is suspended, effective immediately. This suspension will remain in effect until further notice. Any person wishing to export byproduct material to Pakistan must apply for a specific license in accordance with 10 CFR 110.31.

Dated: April 16, 2020.

For the Nuclear Regulatory Commission.

Nader L. Mamish,

Director, Office of International Programs.

[FR Doc. 2020-08412 Filed 4-20-20; 8:45 am]

BILLING CODE 7590-01-P